DEPARTMENT OF COMMERCE

National Oceanic and Atmospheric Administration

RIN 0648-XA689

New England Fishery Management Council; Public Meeting

AGENCY: National Marine Fisheries Service (NMFS), National Oceanic and Atmospheric Administration (NOAA), Commerce.

ACTION: Notice of a public meeting.

SUMMARY: The New England Fishery Management Council (Council) will hold a four-day meeting Monday through Thursday, September 26-29, 2011 to consider actions affecting New England fisheries in the exclusive economic zone (EEZ).

DATES: The meeting will be held on Monday, Tuesday, Wednesday and Thursday, September 26-29, starting at 9 a.m. on Monday, and at 8 a.m. on Tuesday, Wednesday and Thursday.

ADDRESSES: The meeting will be held at the Coco Key Hotel and Resort, 50 Ferncroft Rd. Danvers, MA 01923; telephone: (978) 750-2500; fax: (978) 750-7959. Requests for special accommodations should be addressed to the New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Monday, September 26, 2011

Following introductions and any announcements, the NMFS Regional Administrator will swear in new members and the Council will elect 2011-2012 officers. These exercises will be followed by brief reports from the NEFMC Chairman and Executive Director, NOAA Fisheries Regional Administrator (Northeast Region), Northeast Fisheries Science Center and Mid-Atlantic Fishery Management Council liaisons, NOAA General Counsel, representatives of the U.S. Coast Guard and the Atlantic States Marine Fisheries Commission, and staff from the Vessel Monitoring Systems Operations and Law Enforcement offices. There also will be a review of any experimental fishery permit applications that have been made available for review since the June Council meeting. An open period for public comments will follow at which any interested party may provide brief comments on issues relevant to Council business but not listed on the meeting agenda. During the afternoon session the NMFS Regional Administrator and Acting Science Center Director will provide a follow-up summary of actions taken in response to an April 2011 report commissioned by NMFS that reviewed the fisheries management process in the Northeast in the context of the effectiveness of the relationship among Council, the NMFS Regional Office and the Northeast Fisheries Science Center. The Council Chairman and staff will provide similar reports on this topic. The day will conclude with a preliminary discussion of the Council's 2012 fisheries management priorities.

Tuesday, September 27, 2011

The Council's Monkfish Committee will summarize its discussion about goals and objectives for Amendment 6 to the Monkfish Fishery Management Plan (FMP) and seek approval as appropriate. The Skate Committee report will follow in which it will ask for final Council approval of a fishery specifications package for 2012-2013. Possible changes could affect the annual catch limits, total allowable landings and include monitoring adjustments. The Council then will receive a summary of the most recent Stock Assessment Workshop/Stock Assessment Review Committee meeting findings concerning the status of three winter flounder stocks. The Bureau of Ocean Energy Management, Regulation and Enforcement (BOEMRE) will provide a general update on its activities and review two offshore energy proposals that are currently available for public comment. The Scientific and Statistical Committee (SSC) chairman will review the committee's recommendations concerning ABC's for a number of groundfish stocks in the Northeast multispecies complex and the whiting and hake stocks that are regulated under the Multispecies Fishery FMP. The Council is scheduled to take final action on Framework 23 to the Scallop FMP. The alternatives proposed relate to four specific issues: (1) A turtle deflector dredge for scallop dredge vessels; (2) Revisions to the yellowtail flounder accountability measures proposed in Amendment 15; (3) Modification to how catch in state waters is accounted for in the limited access general category management program for the Northern Gulf of Maine area; and (4) An adjustment to when a scallop vessel declares into the scallop fishery to improve scallop fleet operations.

Wednesday, September 28, 2011

The Groundfish Committee Report will include a range if items: (1) Approval of a scoping document for an amendment to consider accumulation limits and fleet diversity in the groundfish fishery; (2) An update on the upcoming sector workshop scheduled for October; (3) An update on Framework Adjustment 47 to the Northeast Multispecies FMP, including recommendations that address accountability measures for ocean pout, windowpane flounder, Atlantic halibut, and Atlantic wolffish, alternative Georges Bank yellowtail flounder rebuilding strategies, and ABCs for fishing year 2012-2014; (4) A report on the 2011 Transboundary Resources Assessment Committee`s review of the status of Eastern Georges Bank cod and haddock, and Georges Bank yellowtail flounder; and (5) Consideration and possible approval of the Transboundary Management Guidance Committee's recommendations for fishing year 2012 quotas for Eastern Georges Bank cod and haddock, and Georges Bank yellowtail flounder. Two reports will be presented to the Council during the afternoon session. The first is an overview of the report “At-sea and Dockside Monitoring Programs in the Northeast” and the second will be an update to the NEFSC Report “Performance of the Northeast Groundfish Fishery Interim Report for Fishing Year 2010 (May 2010-January 2011).” During the Whiting Committee Report the Council intends to approve management alternatives for inclusion in a Draft Environmental Impact Statement for Multispecies FMP Amendment 19 (to address the small mesh fishery which includes stocks of red hake, silver hake, offshore hake).

Thursday, September 29, 2011

The Council will review the Draft Terms of Reference for the upcoming benchmark stock assessment for herring scheduled for June 2012 and forward any recommendations to the Northeast Regional Coordinating Committee. The Herring Committee will review and ask for approval of a Draft Environmental Impact Statement for Amendment 5 to the Atlantic Herring FMP for the purpose of further review and comment at public hearings. During the discussion the Council intends to address any outstanding/unresolved issues regarding the management alternatives under consideration, review Herring Advisory Panel comments regarding Amendment 5 and review/discuss the Amendment 5 impact analyses. It also could identify preferred alternatives for public hearings. Amendment 5 alternatives currently address adjustments to the fishery management program and reporting requirements for vessels and dealers, measures to address trip notification requirements, carrier vessels, and transfers of herring at-sea. It also may include a catch monitoring program that could maximize sampling and address net slippage, alternatives to allocate observer coverage on limited access herring vessels, river herring bycatch and criteria for midwater trawl vessel access to year-round groundfish closed areas.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: September 2, 2011.
Tracey L. Thompson,
Acting Director, Office of Sustainable Fisheries, National Marine Fisheries Service.

[FR Doc. 2011-22972 Filed 9-7-11; 8:45 am]

BILLING CODE 3510-22-P